DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on November 1-2, 2010, in the Boston University School of Public Health, Room 107, 670 Albany Street, Boston, MA. The sessions will convene at 8 a.m. each day and adjourn at 5:15 p.m. on November 1 and at 1 p.m. on November 2. The meeting is open to the public.

The purpose of the Committee is to provide advice and make recommendations to the Secretary of Veterans Affairs on proposed research studies, research plans and research strategies relating to the health consequences of military service in the Southwest Asia theater of operations during the Gulf War.

The Committee will review VA program activities related to Gulf War veterans' illnesses and updates on relevant scientific research published since the last Committee meeting. The session on November 1 will be devoted to presentations of ongoing research related to inflammation, mitochondrial damage, and pain. There will also be updates of the VA Gulf War research program and the VA-funded Gulf War Biorepository. The session on November 2 will include presentations on toxicogenomics, cancer, and acupuncture as a potential treatment for ill Gulf War veterans. Additionally, there will be discussion of Committee business and activities.

Public comments will be received at 4:45 p.m. on November 1 and at 12:30 p.m. on November 2. A sign-up sheet for five-minute comments will be available at the meeting. Individuals who speak are invited to submit a 1-2 page summary of their comments at the time of the meeting for inclusion in the official meeting record. Members of the public may also submit written statements for the Committee's review to Dr. Roberta White, Chair, Department of Environmental Health, Boston University School of Public Health, 715 Albany Street, T2E, Boston, MA 02118, or email at rwhite@bu.edu.

Any member of the public seeking additional information should contact Dr. White, Scientific Director, at (617) 278-4517 or Dr. William Goldberg, Designated Federal Officer, at (202) 461-1667.

Dated: October 18, 2010.
By Direction of the Secretary.
Vivian Drake,
Acting Committee Management Officer.

[FR Doc. 2010-26724 Filed 10-21-10; 8:45 am]

BILLING CODE P